DEPARTMENT OF HEALTH AND HUMAN SERVICES

Centers for Medicare & Medicaid Services

[Document Identifier: CMS-10261, CMS-10270 and CMS-10136]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Part C Medicare Advantage (MA) Reporting Requirements and Supporting Regulations in 42 CFR 422.516(a); Use: CMS has authority to establish reporting requirements for Medicare Advantage Organizations (MAOs) as described in 42 CFR 422.516(a). Each MAO must have an effective procedure to develop, compile, evaluate, and report to CMS, to its enrollees, and to the general public, at the times and in the manner that CMS requires, and while safeguarding the confidentiality of the doctor-patient relationship, statistics and other information with respect to the cost of its operations, patterns of service utilization, availability, accessibility, and acceptability of its services, developments in the health status of its enrollees, and other matters that CMS may require. Data collected via Medicare Part C Reporting Requirements will be an integral resource for oversight, monitoring, compliance and auditing activities necessary to ensure quality provision of the benefits provided by MA plans to enrollees. Form Number: CMS-10261 (OMB# 0938-New); Frequency: Yearly, quarterly, and semi-annually; Affected Public: Business or other for-profits; Number of Respondents: 703; Total Annual Responses: 1,406; Total Annual Hours: 298,072.

2. Type of Information Collection Request: New collection; Title of Information Collection: Evaluation of the Home Health Pay for Performance Demonstration: Survey instrument; Use: The Home Health Pay for Performance Demonstration is part of a change by CMS toward performance-based purchasing for a variety of provider types. By providing financial incentives for achieving high levels of performance on standardized quality measures, CMS hopes to encourage health care providers to improve the quality of care provided to Medicare beneficiaries. The Home Health Pay for Performance Demonstration (HHP4PD) relies on the voluntary participation by home health agencies within several States, with random assignment of participating agencies to treatment or control groups within each State, where the control group will not be eligible for incentive payments. These two groups form the primary comparison for determining if the HHP4PD was effective in creating improved, targeted outcomes for patients served by home health agencies. The information collected will be used as part of the evaluation of the Home Health Pay for Performance Demonstration sponsored by CMS. Form Number: CMS-10270 (OMB# 0938-New); Frequency: Once; Affected Public: Business or other for-profits and not-for-profit institutions; Number of Respondents: 570; Total Annual Responses: 570; Total Annual Hours: 285.

3. Type of Information Collection Request: Revision of a currently approved collection; Title of Information Collection: Medicare Demonstration Ambulatory Care Quality Measure Performance Assessment Tool (“PAT”); Use: CMS is requesting an extension of the currently approved tool for the collection of ambulatory care clinical performance measure data. The data will be used to continue implementation of two Congressionally mandated demonstration projects (the Physician Group Practice (PGP) Demonstration and the Medicare Care Management Performance (MCMP) Demonstration) and, starting in 2011, support data collection under the new Electronic Health Records (EHR) Demonstration. Each of these demonstrations test new payment methods for improving the quality and efficiency of health care services delivered to Medicare fee-for-service beneficiaries, especially those with chronic conditions that account for a disproportionate share of Medicare expenditures. In addition, the MCMP and EHR demonstrations specifically encourage the adoption of electronic health records systems as a vehicle for improving how health care is delivered.

The changes in the estimated burden between this submission and the original submission are due to the following changes: Combining the Information Collection Request (ICR) application for the PGP and MCMP demonstrations into a single ICR application. Reduction in the number of practices participating in the MCMP Demonstration. An increase in the estimated cost per hour (salary + fringe) for collecting the data. The implementation of the new EHR Demonstration which will begin collecting clinical quality data starting in 2011 with 400 Phase I practices. Form Number: CMS-10136 (OMB# 0938-0941); Frequency: Yearly; Affected Public: Business or other for-profits and not-for-profit institutions; Number of Respondents: 1060; Total Annual Responses: 1060; Total Annual Hours: 25,990.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 25, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

Date: June 18, 2008.
Michelle Shortt,
Director, Regulations Development Group, Office of Strategic Operations and Regulatory Affairs.

[FR Doc. E8-14442 Filed 6-25-08; 8:45 am]

BILLING CODE 4120-01-P